DEPARTMENT OF JUSTICE

Notice of Lodging of Consent Decrees Under the Comprehensive Environmental Response, Compensation, and Liability Act

Notice is hereby given that on January 16, 2001, a complaint and a proposed consent decree in United States and the State of Colorado v. Cypress Amax Mineral Company and E&R Trucking Company, Civil Action No. 01-M-0080, were lodged with the United States District Court for the District of Colorado.

In this action, the United States seeks recovery of approximately $1.52 million in unreimbursed response costs incurred in relation to Operable Unit #1 of the Smeltertown Superfund Site, located near Salida, Colorado, under section 107(a) of the Comprehensive Environmental Response, Compensation, and Liability Act. The State of Colorado seeks recovery of response costs to be incurred at the Site. Under the proposed decree, the defendants implement a remedial action selected by the United States Environmental Protection Agency, which is designed to prevent the further migration of hazardous substances at Operable Unit #1, and will pay all of EPA's and the State of Colorado's future response costs incurred at Operable Unit #1.

The Department of Justice will receive for a period of thirty (30) days from the date of this publication comments relating to the proposed consent decree. Comments should be addressed to the Assistant Attorney General of the Environment and Natural Resources Division, Department of Justice, Washington, DC 20530, and should refer to United States and State of Colorado v. Cypress Amax Minerals Co., et al., D.J. Ref. 90-11-3-1522/1.

The proposed consent decrees may be examined at the Office of the United States Attorney, 1961 Stout Street, 11th Floor, Drawer 3608, Denver, CO 80294; at U.S. EPA Region VIII, 999 18th Street, Denver, Colorado 80202. A copy of the proposed consent decree may also be obtained by mail from the Consent Decree Library, P.O. Box 7611, Washington, DC 20044. In requesting a copy, please enclose a check in the amount of $20.00 (25 cents per page reproduction cost) payable to the Consent Decree Library.

Bruce S. Gelber,
Chief, Environmental Enforcement Section, Environment and Natural Resources Division.

[FR Doc. 01-2908 Filed 2-2-01; 8:45 am]

BILLING CODE 4410-15-M